DEPARTMENT OF TRANSPORTATION

Federal Aviation Administration

14 CFR Part 39

[Docket No. 2002-NM-70-AD; Amendment 39-12688; AD 2002-06-51]

RIN 2120-AA64

Airworthiness Directives; Bombardier Model CL-600-2C10 (Regional Jet Series 700 and 701) Series Airplanes

AGENCY: Federal Aviation Administration, DOT.

ACTION: Final rule; request for comments.

SUMMARY: This document publishes in the Federal Register an amendment adopting airworthiness directive (AD) 2002-06-51 that was sent previously to all known U.S. owners and operators of certain Bombardier Model CL-600-2C10 (Regional Jet Series 700 and 701) series airplanes by individual notices. This AD requires revising the Airplane Flight Manual to provide procedures for addressing uncommanded transfer of fuel from wing fuel tanks to center fuel tank. This action also requires revising the Minimum Equipment List (MEL); limiting operation of the airplane to flight within 60 minutes of a suitable alternative airport; and ensuring that normal mission fuel requirements are increased by 3,000 pounds. This action was prompted by reports of uncommanded fuel transfer between the wing fuel tanks and the center fuel tank. The actions specified by this AD are intended to ensure that the flight crew has the procedures necessary to address such uncommanded fuel transfer, which could cause the center tank to overfill, and fuel to leak from the center tank vent system or to become inaccessible, and result in engine fuel starvation.

DATES: Effective April 2, 2002, to all persons except those persons to whom it was made immediately effective by emergency AD 2002-06-51, issued on March 12, 2002, which contained the requirements of this amendment.

Comments for inclusion in the Rules Docket must be received on or before April 29, 2002.

ADDRESSES: Submit comments in triplicate to the Federal Aviation Administration (FAA), Transport Airplane Directorate, ANM-114, Attention: Rules Docket No. 2002-NM-70-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2002-NM-70-AD” in the subject line and need not be submitted in triplicate. Comments sent via the Internet as attached electronic files must be formatted in Microsoft Word 97 for Windows or ASCII text.

Information pertaining to this amendment may be examined at the FAA, Transport Airplane Directorate, 1601 Lind Avenue, SW., Renton, Washington; or at the FAA, New York Aircraft Certification Office, 10 Fifth Street, Third Floor, Valley Stream, New York.

FOR FURTHER INFORMATION CONTACT: Rodrigo J. Huete, Test Pilot, ANE-172, FAA, New York Aircraft Certification Office, 10 Fifth Street, Third Floor, Valley Stream, New York 11581; telephone (516) 256-7518; fax (516) 568-2716.

SUPPLEMENTARY INFORMATION: On March 12, 2002, the FAA issued emergency AD 2002-06-51, which is applicable to certain Bombardier Model CL-600-2C10 (Regional Jet Series 700 and 701) series airplanes.

That action was prompted by reports of uncommanded fuel transfer between the wing fuel tanks and the center fuel tank. Such uncommanded fuel transfer, if not corrected, could cause the center tank to overfill, and fuel to leak from the center tank vent system or to become inaccessible, and result in engine fuel starvation. In addition, such fuel leakage on the ground could cause a fire.

Explanation of Relevant Service Information

Canadair Regional Jet Series 700 Airplane Flight Manual (AFM) CSP B-012, Temporary Revision (TR) RJ 700/23-1, was issued on March 7, 2002. The TR describes procedures for revising the Limitations section of the AFM that describes requirements for the prohibition of dispatch with the fuel quantity gauging system inoperative. In addition, the TR specifies additional fuel system limitations and additional changes to the “L or R MAIN EJECTOR” of the Abnormal Procedures section.

Transport Canada Civil Aviation (TCCA), which is the airworthiness authority for Canada, classified the TR as mandatory and issued Canadian airworthiness directive CF-2002-19, dated March 8, 2002, in order to ensure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of the Requirements of the Rule

Since the unsafe condition described is likely to exist or develop on other airplanes of the same type design registered in the United States, the FAA issued emergency AD 2002-06-51 to require revising specified sections of AFM CSP B-012 to provide the flight crew with the appropriate procedures to follow in order to address uncommanded transfer of fuel from the wing fuel tanks to the center fuel tank. The AFM actions are required to be accomplished per the previously referenced TR. This AD also requires each operator to revise the Minimum Equipment List (MEL) by removing certain relieving requirements specified in the MEL. In addition, this AD requires limiting operation of the airplane to flight within 60 minutes of a suitable alternative airport, and, prior to each further flight, ensuring that the normal mission fuel requirements are increased by 3,000 pounds.

Differences Between Canadian Airworthiness Directive and This AD

Although the Canadian airworthiness directive did not include procedures for revising the MEL, or for prohibiting dispatch with fuel quantity inoperative, this AD includes those requirements.

Interim Action

This is considered to be interim action until final action is identified, at which time the FAA may consider further rulemaking.

Determination of Rule's Effective Date

Since it was found that immediate corrective action was required, notice and opportunity for prior public comment thereon were impracticable and contrary to the public interest, and good cause existed to make the AD effective immediately by individual notices issued on March 12, 2002 to all known U.S. owners and operators of certain Bombardier Model CL-600-2C10 (Regional Jet Series 700 and 701) series airplanes. These conditions still exist, and the AD is hereby published in the Federal Register as an amendment to section 39.13 of the Federal Aviation Regulations (14 CFR 39.13) to make it effective as to all persons.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-70-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-06-51 Bombardier, Inc. (Formerly Canadair): Amendment 39-12688. Docket 2002-NM-70-AD.

Applicability: Bombardier Model CL-600-2C10 (Regional Jet Series 700 and 701) series airplanes, serial numbers 10005 through 10039 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To ensure that the flight crew has the procedures necessary to address uncommanded fuel transfer between the wing fuel tanks and the center fuel tank, which could cause the center tank to overfill, and fuel to leak from the center tank vent system or to become inaccessible, and result in engine fuel starvation; accomplish the following:

Revision of Airplane Flight Manual (AFM)

(a) Within 2 days after the effective date of this AD, revise the Limitations and Abnormal Procedures sections of Canadair Regional Jet Series 700 of FAA-approved AFM CSP B-012 to include the following information included in paragraphs (a)(1) and (a)(2) of this AD (this may be accomplished by inserting a copy of this AD into the AFM):

(1) Revise the “Limitations—Power Plant,” Paragraph 6, “Fuel” to include the following information, per Canadair Temporary Revision (TR) RJ 700/23-1, dated March 7, 2002: “Dispatch with the fuel quantity gauging system inoperative is prohibited.”

(2) Revise the “Abnormal Procedures—Fuel,” Paragraph H, “L or R Main Ejector” to include the following information, per Canadair TR RJ 700/23-1, dated March 7, 2002:

“H. L or R MAIN EJECTOR
(1) Left and right boost pumps | Confirm operating
(2) Affected engine instruments | Monitor
(3) Fuel tank quantity | Monitor and balance, if required
If centre tank quantity increases abnormally (by more than 227 kg (500 lb)):
(4) Land at the nearest suitable airport.
If centre tank quantity continues to increase (by more than 454 kg (1000 lb)):
(5) Affected engine thrust | IDLE
(6) Consider shutting down affected engine to prevent centre tank transfer.
• Ensure both BOOST PUMPs are operating.
If centre tank quantity further continues to increase (by more than 680 kg (1500 lb)):
(7) Land immediately at the nearest suitable airport.”

Revision of Minimum Equipment List (MEL)

(b) Within 2 days after the effective date of this AD, remove the relieving requirements specified in MEL CL-600-2C10 for the following items.

• Transfer Ejectors (Center Tank) (Ref. Master Minimum Equipment List (MMEL) Item 28-13-07).

• Fuel Transfer shutoff values (SOV) (Center Tank) (Ref. MMEL Item 28-13-08).

• Xflow Pump (Ref. MMEL Item 28-13-10).

• Engine Indication and Crew Alerting System (EICAS) Fuel Tank Quantity Readouts (Left, Right, and Total) (Ref. MMEL Item 28-41-01).

• EICAS Center and Total Fuel Tank Quantity Readouts (Ref. MMEL Item 28-41-02).

• Fuel Computer Channels (Ref. MMEL Item 28-41-03).

Operational Limitation

(c) Within 2 days after the effective date of this AD, revise the Limitations section of Canadair Regional Jet Series 700 of FAA-approved AFM CSP B-012 to limit operation of the airplane to flight within 60 minutes of a suitable alternative airport. This action may be accomplished by inserting a copy of this AD into the Limitations section of the AFM.

Operational Requirement

(d) Within 2 days after the effective date of this AD, and prior to each further flight, revise the Limitations section of Canadair Regional Jet Series 700 of FAA-approved AFM CSP B-012 to ensure that the normal mission fuel requirements are increased by 3,000 pounds. This action may be accomplished by inserting a copy of this AD into the Limitations section of the AFM.

Alternative Methods of Compliance

(e) An alternative method of compliance or adjustment of the compliance time that provides an acceptable level of safety may be used if approved by the Manager, New York Aircraft Certification Office (ACO), FAA, Transport Airplane Directorate. Operators shall submit their requests through an appropriate FAA Principal Maintenance Inspector, who may add comments and then send it to the Manager, New York ACO.

Note 2: Information concerning the existence of approved alternative methods of compliance with this AD, if any, may be obtained from the New York ACO.

Special Flight Permits

(f) Special flight permits may be issued in accordance with sections 21.197 and 21.199 of the Federal Aviation Regulations (14 CFR 21.197 and 21.199) to operate the airplane to a location where the requirements of this AD can be accomplished. The operational limitations and requirements of paragraphs (c) and (d) of this AD will be applicable to all special flight permits.

Note 3: The subject of this AD is addressed in Canadian airworthiness directive CF-2002-19, dated March 8, 2002.

Effective Date

(g) This amendment becomes effective on April 2, 2002, to all persons except those persons to whom it was made immediately effective by emergency AD 2002-06-51, issued on March 12, 2002, which contained the requirements of this amendment.

Issued in Renton, Washington, on March 21, 2002.
Kalene C. Yanamura,
Acting Manager, Transport Airplane Directorate, Aircraft Certification Service.

[FR Doc. 02-7409 Filed 3-27-02; 8:45 am]

BILLING CODE 4910-13-P